DEPARTMENT OF AGRICULTURE

Notice of Request for an Extension for and Revision to a Currently Approved Information Collection

AGENCY: Departmental Administration, USDA.

ACTION: Notice and request for comments.

SUMMARY: In accordance with the Paperwork Reduction Act of 1995 (44 U.S.C. Chapter 35), this notice announces the Department of Agriculture's Office of Security Services' intention to request an extension for and revision to a currently approved information collection for USDA Personal Identity Verification (PIV) Request for Credential, the USDA program implementing the provisions of Homeland Security Presidential Directive 12 (HSPD-12). HSPD-12 establishes a mandatory, Government-wide standard for secure and reliable forms of identification (credentials) issued by the Federal Government to its Federal Employees, other applicable individuals, and contractors. The Office of Management and Budget (OMB) mandated that these credentials be issued to all Federal Government employees, contractors, and other applicable individuals who require long-term access to federally controlled facilities and/or information systems. The HSPD-12 compliant program is jointly owned and administered by USDA through the Office of the Chief Information Officer (OCIO) and Departmental Administration (DA).

DATES: Comments on this notice must be received by June 24, 2009 to be assured of consideration.

Additional Information or Comments: Please submit comments or requests for information to Richard Holman, Chief, Physical Security Division, Office of Security Services, USDA, Room 101, Reporter's Agriculture Building, 300 7th Street, SW., Washington, DC 20024.

SUPPLEMENTARY INFORMATION: Title: USDA PIV Request for Credential.

OMB Number: 0505-0022.

Expiration Date of Approval: June 30, 2009.

Type of Request: Extension and revision of a currently approved information collection.

Abstract: The HSPD-12 information collection consists of two phases of implementation: Personal Identity Verification phase I (PIV I) and Personal Identity Verification phase II (PIV II). The information requested must be provided by Federal employees, contractors, and other applicable individuals when applying for a USDA credential (identification card). This information collection is necessary to comply with the requirements outlined in Homeland Security Presidential Directive (HSPD) 12, and Federal Information Processing Standard (FIPS) 201, Personal Identity Verification (PIV) Phases I & II. USDA must implement an identity proofing, registration, and issuance process consistent with the requirements outlined in FIPS 201. Previously, this information collection form was required as part of USDA's PIV I identity proofing and registration process. For PIV II, implemented after 10/27/06, form AD 1197 has been eliminated and the identity process has been streamlined with the addition of a Web-based HSPD-12 system. As USDA has entered Phase II (PIV II) of the HSPD-12 program, one estimate of burden is calculated and one process description is included.

Estimate of Burden: Public reporting burden for this collection of information is estimated to average 3.5 hours for PIV II. The Burden is estimated based on the three prerequisites for PIV Credential issuance as well as the receipt of the PIV Credential itself.

Respondents: For PIV I, new long term employees, contractors, and other applicable individuals must undergo the information collection process. For PIV II, long term contractors, other applicable individuals, and employees must undergo the information collection process. Existing contractors/employees/other applicable individuals must undergo the process to receive a PIV Credential.

Estimated Number of Respondents: Estimated Annual (this year only) Number of Respondents: PIV II respondents: 65,000. By October 2009, Annual Number of Respondents decreases to approximately 13,000.

Estimated Number of Responses per Respondent: Each respondent should complete one response.

Estimated Total One-Time Burden on Respondents: PIV II: 227,500 hours. By October 2009, Estimated Total Annual Burden on Respondents: 45,500 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Richard Holman. All comments received will be available for public inspection during regular business hours at the same address.

All responses to this notice will be summarized and included in the request for OMB approval. All comments will become a matter of public record.

Signed: April 21, 2009.
W.R. Ashworth,
Acting Deputy Assistant Secretary for Administration.

[FR Doc. E9-9594 Filed 4-27-09; 8:45 am]

BILLING CODE 3410-96-P